DEPARTMENT OF COMMERCE

National Oceanic and Atmospheric Administration

RIN 0648-XU09

Listing Endangered and Threatened Species; Initiation of 5-Year Reviews for 27 Evolutionarily Significant Units and Distinct Population Segments of Pacific Salmon and Steelhead

AGENCY: National Marine Fisheries Service (NMFS), National Oceanic and Atmospheric Administration (NOAA), Commerce.

ACTION: Notice of initiation of 5-year reviews; request for information.

SUMMARY: We, NMFS, announce 5-year reviews of 16 evolutionarily significant units (ESUs) of Pacific salmon (Oncorhynchus sp.) and 11 distinct population segments (DPSs) of steelhead (Oncorhynchus mykiss) under the Endangered Species Act of 1973, as amended (ESA). The purpose of the review is to ensure the accuracy of the listing classifications of these salmonids. On June 28, 2005, NMFS issued final listing determinations for 16 ESUs of Pacific salmon and on January 5, 2006 for ten DPSs of steelhead. We will also complete a 5-year review of Puget Sound steelhead listed on May 11, 2007. The 5-year reviews will be based on the best scientific and commercial data available at the time of the reviews; therefore, we request submission of any such information on these ESUs and DPSs that has become available since the listing determinations in 2005, 2006, and 2007. Based on the results of these 5-year reviews, we will make the requisite determinations under the ESA.

DATES: To allow us adequate time to conduct these reviews, we must receive your information no later than May 17, 2010. However, we will continue to accept new information about any listed species at any time.

ADDRESSES: Please submit information on salmonids in Oregon, Idaho, and Washington to Eric Murray, NMFS Northwest Region, 1201 Lloyd Blvd, Suite 1100, Portland, OR 97232 and information on salmonids in California to Craig Wingert, NMFS Southwest Region, 501, West Ocean Blvd., Long Beach, CA, 90802-4213. Information received in response to this notice will be available for public inspection by appointment, during normal business hours, at the above addresses. Information may also be submitted via facsimile (fax) to (503) 230-5441 (Northwest Region) or (562) 980-4027 (Southwest Region).

FOR FURTHER INFORMATION CONTACT: Eric Murray at the above address or at (503) 231-2378 or Craig Wingert at the above address or at (562) 980-4021.

SUPPLEMENTARY INFORMATION: Section 4(c)(2)(A) of the ESA requires that we conduct a review of listed species at least once every five years. On the basis of such reviews, we determine under section 4(c)(2)(B) whether a species should be delisted, or reclassified from endangered to threatened or from threatened to endangered.

We will undertake reviews for the following salmon ESUs: (1) Sacramento River winter-run Chinook salmon, (2) Upper Columbia River spring-run Chinook salmon, (3) Snake River spring/summer-run Chinook salmon; (4) Central Valley spring-run Chinook salmon: (5) California Coastal Chinook salmon; (6) Puget Sound Chinook salmon; (7) Lower Columbia River Chinook salmon; (8) Upper Willamette River Chinook salmon; (9) Snake River fall-run Chinook salmon; (10) Hood Canal summer-run chum salmon; (11) Columbia River chum salmon; (12) Central California Coast coho salmon; (13) Southern Oregon/Northern California Coast coho salmon; (14) Lower Columbia River coho salmon; (15) Snake River sockeye salmon; and (16) Ozette Lake sockeye salmon.

We will undertake reviews for the following steelhead DPSs: (1) Southern California; (2) Upper Columbia River; (3) Middle Columbia River; (4) Snake River Basin; (5) Lower Columbia River; (6) Upper Willamette; (7) South-Central California Coast; (8) Central California Coast; (9) Northern California; (10) California Central Valley; and (11) Puget Sound. Information about these ESUs and DPSs can be found at our regional websites: http://www.nwr.noaa.gov/ (Northwest Region) or http://swr.nmfs.noaa.gov/ (Southwest Region). The Oregon Coast coho salmon ESU is currently undergoing review and therefore is not included in these 5-year reviews.

Our regulations for periodic reviews at 50 CFR 424.21 require that we publish a notice in the Federal Register announcing those species currently under active review. This notice announces our active reviews of the ESUs and DPSs of salmon and steelhead listed above. Any change in listing classification would require a separate rulemaking process.

Determining if a Species is Threatened or Endangered

Section 4(a)(1) of the ESA requires that we determine whether a species is endangered or threatened based on one or more of the five following factors: (1) The present or threatened destruction, modification, or curtailment of its habitat or range; (2) overutilization for commercial, recreational, scientific, or educational purposes; (3) disease or predation; (4) the inadequacy of existing regulatory mechanisms; or (5) other natural or manmade factors affecting its continued existence. Section 4(b) also requires that our determination be made on the basis of the best scientific and commercial data available after taking into account those efforts, if any, being made by any State or foreign nation, to protect such species.

Application of the ESU and DPS Policies

NMFS is responsible for determining whether species, subspecies, or DPSs of Pacific salmon and steelhead are threatened or endangered under the ESA. To identify the proper taxonomic unit for consideration in a listing determination, we use our Policy on Applying the Definition of Species under the ESA to Pacific Salmon (ESU Policy) (56 FR 58612). Under this policy, populations of salmon substantially reproductively isolated from other conspecific populations and representing an important component in the evolutionary legacy of the biological species are considered to be an ESU. In our listing determinations for Pacific salmon under the ESA, we have treated an ESU as constituting a DPS, and hence a “species,” under the ESA.

On January 5, 2006, we announced that we would apply the joint US Fish and Wildlife Service-NMFS DPS policy (61 FR 4722) rather than our ESU Policy to populations of steelhead. Under this policy, a DPS of steelhead must be discrete from other conspecific populations, and it must be significant to its taxon. A group of organisms is discrete if it is “markedly separated from other populations of the same taxon as a consequence of physical, physiological, ecological, and behavioral factors.” Under the DPS Policy, if a population group is determined to be discrete, the agency must then consider whether it is significant to the taxon to which it belongs. Considerations in evaluating the significance of a discrete population include: (1) persistence of the discrete population in an unusual or unique ecological setting for the taxon; (2) evidence that the loss of the discrete population segment would cause a significant gap in the taxon's range; (3) evidence that the discrete population segment represents the only surviving natural occurrence of a taxon that may be more abundant elsewhere outside its historical geographic range; or (4) evidence that the discrete population has marked genetic differences from other populations of the species.

On June 28, 2005, we announced a final policy addressing the role of artificially propagated (hatchery produced) Pacific salmon and steelhead in listing determinations under the ESA (70 FR 37204). Specifically, this policy (1) establishes criteria for including hatchery stocks in ESUs and DPSs, (2) provides direction for considering hatchery fish in extinction risk assessments of ESUs and DPSs, (3) requires that hatchery fish determined to be part of an ESU will be included in any listing of the ESU; (4) affirms NMFS' commitment to conserving natural salmon and steelhead populations and the ecosystems upon which they depend, and (5) affirms NMFS' commitment to fulfilling trust and treaty obligations with regard to the harvest of some Pacific salmon and steelhead populations, consistent with the conservation and recovery of listed salmon and steelhead ESUs.

Public Solicitation of New Information

The 5-year reviews will consider the best scientific and commercial data available and new information that has become available since the last listing determinations. Our Northwest and Southwest Fisheries Science Centers will assist the Regions in gathering and analyzing this information. To ensure that the 5-year reviews are complete and based on the best available information, we are soliciting new information from the public, concerned governmental agencies, Tribes, the scientific community, industry, environmental entities, and any other interested parties concerning the status of the salmon and steelhead ESUs and DPSs listed above.

Specifically, we request new information since our listing determinations in 2005, 2006, and 2007 on (1) Population abundance; (2) population productivity; (3) changes in species distribution or population spatial structure; (4) genetics or other diversity measures; (5) changes in habitat conditions; (6) conservation measures that have been implemented that benefit the species; (7) status and trends of threats; (8) changes to salmon and steelhead hatchery programs that may affect ESU or DPS membership, and (9) other new information, data, or corrections including, but not limited to, taxonomic or nomenclatural changes, identification of erroneous information in the previous listing determination, and improved analytical methods.

If you wish to provide information for this 5-year review, you may submit your information and materials to Eric Murray or Craig Wingert (see ADDRESSES). Our practice is to make submissions of information, including names and home addresses of respondents, available for public review during regular business hours. Respondents may request that we withhold a respondent's identity as allowable by law. If you wish us to withhold your name or address, you must state this request prominently at the beginning of your submission. We will not, however, consider anonymous submissions. To the extent consistent with applicable law, we will make all submissions from organizations or businesses, and from individuals identifying themselves as representatives or officials of organizations or businesses, available for public inspection in their entirety. Information and materials received will be available for public inspection, by appointment, during normal business hours (see ADDRESSES).

Authority: 16 U.S.C. 1531 et seq.

Dated: March 12, 2010
Angela Somma,
Chief, Endangered Species Division, Office of Protected Resources, National Marine Fisheries Service.

[FR Doc. 2010-5994 Filed 3-17-10; 8:45 am]

BILLING CODE 3510-22-S